ENVIRONMENTAL PROTECTION AGENCY

[EPA-HQ-OECA-2005-0062; ER-FRL-8990-3]

Agency Information Collection Activities; Proposed Collection; Comment Request; Procedures for Implementing the National Environmental Policy Act and Assessing the Environmental Effects Abroad of EPA Actions (Renewal); EPA ICR No. 2243.06, OMB Control No. 2020-0033

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on August 31, 2010. Before submitting the ICR to OMB for review and approval, EPA is soliciting comments on specific aspects of the proposed information collection as described below.

DATES: Comments must be submitted on or before Tuesday, July 6, 2010.

ADDRESSES: Submit your comments, identified by Docket ID No. EPA-HQ-OECA-2005-0062, by one of the following methods:

• http://www.regulations.gov: Follow the on-line instructions for submitting comments.

• E-mail: trice.jessica@epa.gov.

• Fax: 202-564-0072.

• Mail: Enforcement and Compliance Docket, Environmental Protection Agency, Mailcode: 28221T, 1200 Pennsylvania Ave., NW., Washington, DC 20460.

• Hand Delivery: EPA Headquarters West Building, Room 3334, located at 1301 Constitution Ave., NW., Washington, DC 20460. Such deliveries are only accepted during the Docket's normal hours of operation, and special arrangements should be made for deliveries of boxed information.

Instructions: Direct your comments to Docket ID No. EPA-HQ-OECA-2005-0062. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Jessica Trice, Office of Federal Activities, Mail Code 2252A, Environmental Protection Agency, 1200 Pennsylvania Ave., NW., Washington, DC 20460; telephone number: (202) 564-6646; fax number: (202) 564-0072; e-mail address: trice.jessica@epa.gov.

SUPPLEMENTARY INFORMATION:

How can I access the docket and/or submit comments?

EPA has established a public docket for this ICR under Docket ID No. EPA-HQ-OECA-2005-0062, which is available for online viewing at http://www.regulations.gov, or in person viewing at the Enforcement and Compliance Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Enforcement and Compliance Docket is 202-566-1752.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are certain grant or permit applicants who must submit environmental information documentation to EPA for their projects to comply with NEPA or Executive Order 12114. The applicant burden for any EPA action subject to NEPA and/or Executive Order 12114 that is based on an applicant proposal, including Wastewater Treatment Construction Grants Program facilities, STAG actions subject to NEPA and new source NPDES permits issued by EPA, is addressed in this ICR. EPA's Executive Order 12114 implementing procedures further the purpose of NEPA and provide that EPA may be guided by the CEQ Regulations to the extent they are applicable. Therefore, when EPA conducts an environmental assessment pursuant to its Executive Order 12114 procedures, the Agency generally follows the CEQ Regulations and the procedures in EPA's NEPA implementing regulations.

Title: Agency Information Collection Activities; Proposed Collection; Comment Request; Procedures for Implementing the National Environmental Policy Act and Assessing the Environmental Effects Abroad of EPA Actions (Renewal).

ICR numbers: EPA ICR No. 2243.06, OMB Control No. 2020-0033.

ICR status: This ICR is currently scheduled to expire on August 31, 2010. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The National Environmental Policy Act of 1969 (NEPA), 42 U.S.C. 4321-4347 establishes the Federal government's national policy for protection of the environment. The Council on Environmental Quality Regulations (CEQ Regulations) at 40 CFR parts 1500 through 1508 establish procedures implementing the national policy. The CEQ Regulations (40 CFR 1505.1) require Federal agencies to adopt and, as needed, revise their own implementing procedures to supplement the CEQ Regulations and to ensure their decision-making processes are consistent with NEPA.

Those subject to the final NEPA rule include EPA officials who must comply with NEPA, and certain grant or permit applicants who must submit environmental information documentation to EPA for their proposed projects. The final NEPA regulations consolidate and standardize the environmental review process applicable to all EPA actions subject to NEPA, including those actions now specifically addressed in the regulations and other actions subject to NEPA but not specifically addressed in the regulations (e.g., certain grants awarded for special projects authorized by Congress through the Agency's annual Appropriations Act).

Compliance with the final NEPA regulations is the responsibility of EPA's Responsible Officials. For applicant-proposed actions, certain procedures apply to applicants (that is grantees and permit applicants) who must submit environmental information to EPA as part of the environmental review process. The EPA Responsible Official is responsible for the environmental review process, including any categorical exclusion determination or the scope, accuracy, and contents of a final environmental assessment (EA) or environmental impact statement (EIS) and any supporting documents.

The applicant contributes by submitting environmental information to EPA as part of the environmental review process. For actions subject to NEPA, the Responsible Official may determine that the proposed action does not individually or cumulatively have a significant effect on the human environment and may, therefore, be categorically excluded from further NEPA review. If the proposed action is not categorically excluded, the Responsible Official may prepare an EA in order to determine whether to prepare an EIS or a finding of no significant impact (FONSI). If necessary, the Responsible Official must prepare an EIS if the proposed action will have a significant effect on the human environment. For applicant-proposed actions, the applicant may submit information to the Responsible Official regarding the applicability of a categorical exclusion and request a determination by the Responsible Official. Unless the applicant-proposed action is categorically excluded, the Responsible Official may gather the information and prepare the NEPA documents without assistance from the applicant, or have the applicant prepare an environmental information document (EID) or a draft EA and supporting documents or implement a third-party contract agreement with the applicant.

EPA is collecting information from certain applicants as part of the process of complying with either NEPA or Executive Order 12114. EPA's NEPA regulations apply to the actions of EPA that are subject to NEPA in order to ensure that environmental information is available to the Agency's decision-makers and the public before decisions are made and before actions are taken. The Part 6 regulations also include EPA's procedures implementing Executive Order 12114. These procedures ensure that environmental information is available to the Agency's decision-makers and other appropriate Federal agencies and officials for actions subject to Executive Order 12114.

Whether the NEPA documents are based on environmental information developed by the Responsible Official or submitted by the applicant, the NEPA review and resulting documents generally rely on the use of existing data and information, including data and information from other federal agencies, state or local governments, or federally-recognized Indian tribes with jurisdiction by law or special expertise. Whether the NEPA documents are prepared by the Responsible Official or based on environmental information submitted by the applicant, the quality of the information provided by an applicant must be sufficient to enable the Responsible Official to make a decision. This is accomplished under EPA's NEPA implementing procedures through: (1) Early coordination and cooperation with Federal agencies, State and local governments, and federally-recognized Indian tribes with jurisdiction by law or special expertise (see final rule § 6.202); and (2) the public participation process associated with actions other than those categorically excluded (see final rule § 6.203). When the environmental information is provided by the applicant, the Responsible Official is responsible for the statements, analyses, and conclusions of the EA or EIS and any supporting documents. The information compiled is a one-time submission in narrative text format (see final rule §§ 6.205 and 6.207) rather than computerized compilations of data and information. There are no forms, checklists, or ongoing reporting, recordkeeping or file-maintenance requirements for applicants. EPA maintains file records for each action.

The information submitted by applicants would be consistent with the guidelines of the Office of Management and Budget (OMB) in 5 CFR 1320.6. There are no schedule requirements or requirements on the number of copies of the documentation to be submitted or requirements for ongoing reporting or recordkeeping or to conduct statistical surveys.

Burden Statement: The annual public reporting and recordkeeping burden for this collection of information is estimated to average 123 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

For purposes of this ICR, the total annual public reporting and recordkeeping burden for this collection of information is estimated at 38,472 hours and $3,503,245 for contractor hours and costs, direct labor hours and costs, and O&M costs. This burden reflects the annual submission of documentation for an anticipated 312 applicant-proposed project that may be documented with a CE, or an EA/FONSI, or an EIS/ROD. For any specific project, only one of these levels of documentation is generally prepared.

The ICR provides a detailed explanation of the Agency's estimate, which is only briefly summarized here:

Estimated total number of potential respondents: 312.

Frequency of response: On occasion.

Estimated total average number of responses for each respondent: 1.

Estimated total annual burden hours: 38,472 hours.

Estimated total annual costs: $3,503,245.

Are there changes in the estimates from the last approval?

There is a decrease of 9,675 hours in the total estimated respondent burden compared with that identified in the ICR currently approved by OMB. This decrease reflects the increasing number of projects that are documented with a categorical exclusion (CE) rather than an environmental assessment (EA). Under the current ICR, approximately 60% of the annual 300 grant projects were documented with a CE, and 40% with an EA. However, we estimate that out of the 300 annual grant projects, 75% will be documented with a CE and 25% will be documented with an EA. Annually, then, the burden would shift to 10,125 hours and $3,825 for CE documentation, and 19,500 hours and $3,000 for EA documentation. With the current ICR, the total annual burden is 48,147 hours and $8,673.34. Under the renewal ICR, the total annual burden is 38,472 hours and $7,638.34. The renewal ICR reduces the total annual burden by 9,675 hours and $1,035. This reflects EPA's respondents anticipated during the 3-year ICR renewal period and the level of environmental documentation EPA anticipates the respondents will submit.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: April 30, 2010.
Susan E. Bromm,
Director, Office of Federal Activities.

[FR Doc. 2010-10868 Filed 5-6-10; 8:45 am]

BILLING CODE 6560-50-P